CONSUMER PRODUCT SAFETY COMMISSION

Sunshine Act Meetings

FEDERAL REGISTER CITATION OF PREVIOUS ANNOUNCEMENT: Vol. 75, No. 181, Monday, September 20, 2010, page 57264.

PREVIOUSLY ANNOUNCED TIME AND DATE OF MEETINGS: (1) Open to Public—10 a.m.-12 Noon., and (2) Closed to Public—2 p.m.-3 p.m., Wednesday September 22, 2010.

CHANGES TO MEETINGS: (1) For Meeting Open to the Public, Item 1. Decisional Matter: Final Interpretative Rule: Interpretation of Children's Product POSTPONED; (2) Time for Item 2: Briefing Matter: Strategic Plan, rescheduled to 10 a.m.-11 a.m.; and (3) Time for Closed Compliance Status Report rescheduled to 11 a.m.-12 Noon; For a recorded message containing the latest agenda information, call (301) 504-7948.

CONTACT PERSON FOR ADDITIONAL INFORMATION: Todd A. Stevenson, Office of the Secretary, 4330 East West Highway, Bethesda, MD 20814 (301) 504-7923.

Dated: September 21, 2010.
Todd A. Stevenson,
Secretary.

[FR Doc. 2010-24018 Filed 9-21-10; 4:15 pm]

BILLING CODE 6355-01-P